DEPARTMENT OF ENERGY

Federal Energy Regulatory Commission

Notice of Intent To File License Application, Filing of Pre-Application Document, and Approving Use of the Traditional Licensing Process

March 27, 2007.

a. Type of filing: Notice of Intent to File License Application and Request to Use the Traditional Licensing Process.

b. Project No.: 12775-000.

c. Date Filed: February 14, 2007.

d. Submitted By: City of Spearfish, South Dakota.

e. Name of Project: Spearfish Hydroelectric Project.

f. Location: On Spearfish Creek, in Lawrence county, South Dakota. The project occupies United States lands within the Black Hills National Forest administered by the U.S. Forest Service.

g. Filed Pursuant to: 18 CFR 5.3 of the Commission's regulations.

h. License Applicant Contact: Ms. Cheryl Johnson, Public Works Administrator, City of Spearfish, 625 Fifth Street, Spearfish, SD 57783; (605) 642-1333; or e-mail at cherylj@city.spearfish.sd.us.

i. FERC Contact: Steve Hocking at (202) 502-8753; or e-mail at steve.hocking@ferc.gov.

j. The City of Spearfish filed a request to use the Traditional Licensing Process on February 14, 2007, and provided public notice of this request on February 15, 2007. With this notice, the Director of the Office of Energy Projects approves the City of Spearfish's request to use the Traditional Licensing Process.

k. With this notice, we are initiating informal consultation with: (a) The U.S. Fish and Wildlife Service under section 7 of the Endangered Species Act; and (b) the South Dakota State Historic Preservation Officer, as required by Section 106, National Historical Preservation Act, and the implementing regulations of the Advisory Council on Historic Preservation at 36 CFR 800.2.

l. By letters dated February 22, 2007, we designated the City of Spearfish as the Commission's non-federal representative for carrying out informal consultation pursuant to section 7 of the Endangered Species Act, and consultation pursuant to section 106 of the National Historic Preservation Act.

m. The City of Spearfish filed a Pre-Application Document (PAD) with the Commission pursuant to 18 CFR 5.6 of the Commission's regulations.

n. A copy of the PAD is available for review at the Commission in the Public Reference Room or may be viewed on the Commission's Web site http://www.ferc.gov using the “eLibrary” link. Enter the docket number, excluding the last three digits in the docket number field to access the document. For assistance, contact FERC Online Support at FERCONlineSupport@ferc.gov or toll free at (866) 208-3676, or for TTY, (202) 502-8659. A copy is also available for inspection and reproduction at the address in paragraph h.

Register online at http://ferc.gov/esubscribenow.htm to be notified via e-mail of new filing and issuances related to this or other pending projects. For assistance, contact FERC Online Support.

Philis J. Posey,
Acting Secretary.

[FR Doc. E7-5998 Filed 3-30-07; 8:45 am]

BILLING CODE 6717-01-P